DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before December 1, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2014-029-C.

Petitioner: North American Drillers, Contractor ID: H2Q, 130 Meadow Ridge Road, Suite 22, Mount Morris, Pennsylvania 15349.

Companies and Mines: Tunnel Ridge, LLC, Tunnel Ridge Mine, MSHA I.D. No. 46-08864, located in Ohio County, West Virginia; Mettiki Coal WV, LLC, Mountain View Mine, MSHA I.D. No. 46-09028, located in Tucker County, West Virginia; ACI Tygart Valley, Leer Mine, MSHA I.D. No. 46-09192, Taylor County, West Virginia; Monongalia County Coal Company, Monongalia County Mine, MSHA I.D. No. 46-01968, located in Monongalia County, West Virginia; Ohio County Coal Company, Ohio County Mine, MSHA I.D. No. 46-01436, located in Ohio County, West Virginia; Harrison County Coal Company, Harrison County Mine, MSHA I.D. No. 46-01318, located in Harrison County, West Virginia; Marshall County Coal Company, Marshall County Mine, MSHA I.D. No. 46-01437, located in Marshall County, West Virginia; Marion County Coal Company, Marion County Mine, MSHA I.D. No. 46-01433, located in Marion County, West Virginia; The Ohio Valley Coal Company, Powhatan #6 Mine, MSHA I.D. No. 33-01159, located in Belmont County, Ohio; and Eastern Associated Coal, LLC, Federal #2 Mine, MSHA I.D. No. 46-01456, located in Monongalia County, West Virginia.

Regulation Affected: 30 CFR 77.1914(a) (Electrical equipment).

Modification Request: The petitioner requests a modification of the existing standard to permit the use of 480-volt, three-phase, alternating current submersible pumps to dewater completed ventilation shafts prior to the shafts being put into service at the mines referenced in this petition.

The petitioner proposes the following terms and conditions:

(1) The three-phase, 480-volt alternating current electric power circuit for the pump will be designed and installed to:

(a) Contain either a direct or derived neutral wire, which will be grounded through a suitable resistor at the source transformer or power center and through a grounding circuit originating at the grounded side of the grounding resistor, that will extend along with the power conductors and serve as the grounding conductor for the frame of the pump and all associated electric equipment that may be supplied power from this circuit.

(b) Contain a grounding resistor that limits the ground-fault current to not more than 15 amperes. The grounding resistors will be rated for the maximum fault current available and will be insulated from ground for a voltage equal to the phase-to-phase voltage of the system.

(2) The 480-volt pump circuit will be provided with a suitable circuit interrupting device of adequate interrupting capacity, with devices to provide protection against under-voltage, grounded phase, short-circuit, and overload.

(3) The under-voltage protection device will operate on a loss of voltage to prevent automatic restarting of the equipment.

(4) The grounded phase protection device will be set not to exceed 40 percent of the current rating of the neutral grounding resistor. The 480-volt circuit will provide the following:

(i) A “look ahead” circuit device to prevent closing the breaker when a phase to ground fault condition exists on the system; and

(ii) A test circuit that will inject a test current through the grounded phase current transformer.

(5) The short-circuit protection device will be set not to exceed the required short-circuit protection for the power cable or 75 percent of the minimum available phase-to-phase short-circuit current, whichever is less.

(6) The circuit will include a disconnecting device located on the surface and installed in conjunction with the circuit breaker to provide a means for visual evidence that the power is disconnected from the pump circuits and a means to lock and tag-out the system.

(7) The pump power system will include a fail-safe ground check circuit or other, no less effective, device approved by the Secretary that will cause the circuit breaker to open when either the ground or pilot wire is broken. A manually operated test switch will be provided to verify the operation of the ground check device. The device will be installed, and maintained operable, to monitor the ground continuity from the starter box to the pump.

(8) The pump(s) electric control circuit(s) will be designed and installed so that:

(a) The pump(s) cannot start and/or run in either the manual or the automatic mode if the water is below the low water probe level.

(b) The low water probe will be positioned to maintain at least 12 inches above the inlet of the pump and electrical connections of the pump motor.

(c) The low water probe will be suitable for submersible pump control application.

(d) All probe circuits will be intrinsically safe.

(e) A motor controller will be provided and used for pump startup and shutdown.

(9) The pump installation will be equipped with a water level indicator at the pump circuit controls such that a miner can determine the water level above the pump inlet and electrical connector(s).

(10) The surface pump(s) control and power circuits will be examined as required by 30 CFR 77.502.

(a) A record of the examination will be kept in accordance with 30 CFR 77.502.

(b) The examination will include a functional test of the grounded phase protective device(s) to determine proper operation. A record of these functional tests will be recorded in an electric equipment record book.

(d) An electrical examination will be performed prior to placing the pump in service.

(e) Methane checks will be made at the collar of the borehole prior to energizing the pump. The pump will not be energized if 1.0 percent or greater of methane is detected.

(11) The power cable to the submersible pump motor will be suitable for this application and will have a current carrying capacity not less than 125 percent of the full load current of the submersible pump motor and an outer jacket suitable for a “wet location”.

(12) Splices and connections made in submersible pump cable will be made in a workmanlike manner and will meet the requirements of 30 CFR 75.604. The pump installations will comply with all other applicable 30 CFR requirements.

(13) The District Manager will be notified prior to dewatering any shaft using a nonpermissible submersible pump. The required shaft plan will include this notification.

(14) Within 60 days after the Proposed Decision and Order becomes final, the petitioner will submit proposed revisions for its approved part 48 training plan to the District Manager. The proposed revisions will specify task training for all qualified electricians who perform electric work and monthly electric examinations as required in 30 CFR 77.502, refresher training regarding the alternative method outlined in the petition, and the terms and conditions in the Proposed Decision and Order. Training will include the following elements:

(a) The hazards that could exist if the water level falls below the pump inlet or the electric connections of the pump motor.

(b) The safe restart procedures that will include the miner determining that the water level is above the pump inlet and pump motor prior to attempting to manually restart the pump motor.

(15) Procedures of 30 CFR 48.3 for approval of proposed revisions to already approved training plans will apply.

The petitioner states that:

(1) In the execution of work providing a blind drilled shaft for the mine operator the blind drilled shaft remains full of water and personnel are never required to go below the collar of the blind drilled shaft.

(2) Water will be removed from the blind drilled shaft installations upon completion of the work and prior to the mine operator connecting the blind drilled shaft to the underground mine.

(3) The blind drilled shaft is fully lined with steel casing and is grouted in place. This steel casing and grout seal isolate the completed blind drilled shaft from any coal seams, mitigating any possibility for methane to enter the blind drilled shaft.

(4) The electric motor of any submersible pump is located below the pump intake making it impossible for the motor to ever be above the surface of the water.

(5) There are no electric submersible motor/pump assemblies manufactured that will effectively pump water deeper than approximately 400 feet that are permissible as required in 30 CFR 77.1914(a).

(6) The petitioner proposes to use permissible pumps to dewater blind drilled shafts where depths are less than approximately 400 feet.

(7) At depths greater than approximately 400 feet, the alternative method outlined in this petition is consistent with prudent engineering design pursuant to 30 CFR 77.1900 whereas it minimizes the hazards to those employed in the initial or subsequent development of the blind drilled shaft.

The petitioner asserts that the proposed alternative method will at all times guarantee no less than the same measure of protection afforded the miners by the existing standard.

Docket Number: M-2014-030-C.

Petitioner: M-Class Mining, LLC, 11351 N. Thompsonville Road, Macedonia, Illinois 62860.

Mine: MC#1 Mine, MSHA I.D. No. 11-03189, located in Franklin County, Illinois.

Regulation Affected: 30 CFR 75.507-1(a) (Electric equipment other than power-connection points; outby the last open crosscut return air; permissibility requirements).

Modification Request: The petitioner requests a modification of the existing standard to permit the use of nonpermissible submersible deep well pumps in bleeder and return air courses. The petitioner proposes to install low-voltage alternating current submersible pumps in return and/or bleeder entries and sealed area of the MC#1Mine. The petitioner states that:

(1) These low-voltage submersible pumps will provide a pumping option to the existing turbine pumps that are installed to maintain the bleeder and return entries from obstructions caused by water. Water accumulations in these airways can pose a safety hazard as they can affect the airflow in the active and inactive parts of the mine.

(2) The pumps may be installed between 600 and 1,200 feet below the surface.

(3) The three-phase low-voltage alternating current electric power circuits for the pumps will be designed and installed to:

(a) Contain either a direct or derived neutral wire, which must be grounded through a suitable resistor at the source transformer or power center and through a grounding circuit originating at the grounded side of the grounding resistor, which must extend along with the power conductors and serve as the grounding conductor for the frame of the pump and all associated electric equipment that may be supplied power from this circuit. The borehole casing will be bonded to the system grounded medium.

(b) Contain a grounding resistor that limits the ground-fault current to not more than 15 amperes. The grounding resistor will be rated for the maximum fault current available and will be insulated from ground for a voltage equal to the phase-to-phase voltage of the system.

(c) Provide protection by a suitable circuit breaker of adequate interrupting capacity with devices to protect against undervoltage, grounded phase, short-circuit, and overload.

(d) Contain a disconnecting device installed in conjunction with the circuit breaker to provide visual evidence that the power is disconnected.

(e) Include a fail-safe ground check circuit or other no less effective device approved by the Secretary as required by 30 CFR 75.902, that will cause the circuit breaker to open when either the ground or pilot wire is broken.

(4) The pump(s) electric control circuits will be designed and installed so that:

(a) The pump(s) cannot start and/or run in either the manual or the automatic mode if the water is below the low level indicator (probe or bubbler) level.

(b) The low level (probe or bubbler) water level probe will be located at least three feet above the pump inlet and motor and electrical connections of the pump(s).

(c) The high and low water probes must be suitable for submersible pump control application.

(d) All water level probe circuits will be protected with MSHA approved intrinsically safe barriers.

(e) A remote control and monitoring system may be used with the pump system for condition monitoring and for remote start-up and shutdown control of the pumps. The remote control and monitoring system will not allow remote reset of the pump power system when fault conditions (e.g., grounded phase, short circuit, or overload) exist on the system.

(5) The surface pump(s) control and power circuits will be examined, tested, and maintained as required by 30 CFR 77.502.

(6) Splices and connections made in submersible pump cable will be made in a workmanlike manner and will meet the requirements of 30 CFR 75.604. The pump installations will comply with all other applicable 30 CFR requirements.

(7) Within 60 days after the Proposed Decision and Order becomes final, the petitioner will submit proposed revisions for its approved part 48 training plan to the District Manager. The proposed revisions will specify task training for all qualified electricians who perform electric work and monthly electric examinations, testing and maintenance as required in 30 CFR 77.502, refresher training regarding the alternative method outlined in the petition, and the terms and conditions in the Proposed Decision and Order.

(8) The procedures of 30 CFR 48.3 for approval of proposed revisions to already approved training plans will apply.

The petitioner asserts that the proposed alternative method will at all times guarantee no less than the same measure of protection afforded the miners by the existing standard.

Dated: October 24, 2014.
Sheila McConnell,
Acting Director, Office of Standards, Regulations and Variances.

[FR Doc. 2014-25774 Filed 10-29-14; 8:45 am]

BILLING CODE 4510-43-P